DEPARTMENT OF HEALTH AND HUMAN SERVICES

Administration for Children and Families

[CFDA Number(s): 93.645]

Allotment Percentages to States for Child Welfare Services State Grants

AGENCY: Children's Bureau, Administration on Children, Youth and Families, Administration for Children and Families (ACF), Department of Health and Human Services (HHS).

ACTION: Notice of biennial publication of allotment percentages for states under the Stephanie Tubbs Jones Child Welfare Services Program, Title IV-B, subpart 1 of the Social Security Act.

SUMMARY: As required by the Social Security Act, the Department is publishing the allotment percentage for each state under the Title IV-B Subpart 1, Stephanie Tubbs Jones Child Welfare Services Grant Program. Under the Act, the allotment percentages are one of the factors used in the computation of the federal grants awarded under the Program.

DATES: The allotment percentages will be effective for Federal Fiscal Years 2024 and 2025.

FOR FURTHER INFORMATION CONTACT: Sona Cook, Grants Management Officer, Family Protection & Resilience Portfolio, Office of Grants Management, Office of Administration, Administration for Children and Families, 330 C St. SW, Washington, DC 20201. Telephone (214) 767-2973, Email: sona.cook@acf.hhs.gov.

SUPPLEMENTARY INFORMATION: The allotment percentage for each state is determined on the basis of paragraphs (b) and (c) of section 423 of the Social Security Act (42 U.S.C. 623(c)). These figures are available on the ACF internet homepage at http://www.acf.hhs.gov/programs/cb/. The allotment percentage for each state is as follows:

Allotment **
State | Percentage
Alabama | 61.36%
Alaska * | 47.30
Arizona | 56.72
Arkansas | 60.56
California | 41.11
Colorado | 45.00
Connecticut | 34.14
Delaware | 52.69
District of Columbia | 24.82
Florida | 51.68
Georgia | 56.47
Hawaii * | 52.02
Idaho | 58.98
Illinois | 47.87
Indiana | 56.30
Iowa | 55.36
Kansas | 53.44
Kentucky | 60.40
Louisiana | 57.62
Maine | 54.45
Maryland | 45.10
Massachusetts | 34.71
Michigan | 55.87
Minnesota | 48.08
Mississippi | 64.46
Missouri | 56.58
Montana | 55.22
Nebraska | 52.04
Nevada | 53.31
New Hampshire | 42.69
New Jersey | 39.79
New Mexico | 60.98
New York | 40.11
North Carolina | 56.48
North Dakota | 49.35
Ohio | 55.47
Oklahoma | 57.53
Oregon | 52.45
Pennsylvania | 49.51
Rhode Island | 50.00
South Carolina | 58.85
South Dakota | 49.99
Tennessee | 56.08
Texas | 52.95
Utah | 56.48
Vermont | 50.98
Virginia | 47.94
Washington | 42.74
West Virginia | 62.07
Wisconsin | 53.25
Wyoming | 44.61
Amer Samoa | 70
Guam | 70
Puerto Rico | 70
N. Mariana | 70
Virgin Islands | 70
* State Percentage = 50% of year average divided by the National United States 3-year average.
** State Percentage minus 100% yields the IV-Bl allotment percentage.
¹ Allotment Percentage has been adjusted in accordance with section 423(b)(1).

Statutory Authority: Section 423(c) of the Social Security Act (42 U.S.C. 623(c)).

Elizabeth Leo,
Senior Grants Policy Specialist, Office of Grants Policy, Office of Administration.

[FR Doc. 2022-26272 Filed 11-29-22; 4:15 pm]

BILLING CODE 4184-01-P